DEPARTMENT OF ENERGY

Intent To Prepare an Environmental Impact Statement; Continued Operation of the Department of Energy/National Nuclear Security Administration Sandia National Laboratories, NM

AGENCY: U.S. Department of Energy's National Nuclear Security Administration, DOE.

ACTION: Notice of intent to prepare an environmental impact statement and conduct public scoping meetings.

SUMMARY: Pursuant to the National Environmental Policy Act of 1969, as amended (42 U.S.C. 4321 et seq.) (NEPA), and the Council on Environmental Quality (CEQ) and the U.S. Department of Energy (DOE) regulations implementing NEPA (40 CFR Parts 1500-1508 and 10 CFR Part 1021, respectively), the National Nuclear Security Administration (NNSA), a semi-autonomous agency within DOE, announces its intention to prepare a site-wide environmental impact statement (SWEIS) (DOE/EIS-0466) for the continued operation of DOE/NNSA activities at Sandia National Laboratories, New Mexico (SNL/NM) on Kirtland Air Force Base (KAFB) and within the Albuquerque area, as well as other DOE activities at both on-site and off-site locations (the NNSA Service Center, the NNSA Office of Secure Transportation, NNSA Kirtland Operations, the NNSA Aviation Facility, and the DOE National Training Center). The purpose of this notice is to invite individuals, organizations, and government agencies and entities to participate in developing the scope of the SWEIS. The new SWEIS will consider a No Action Alternative, which is to continue current operations through implementation of the 1999 Record of Decision (ROD) (64 FR 69996; 12/15/99) and subsequent NEPA decisions. Three action alternatives proposed for consideration in the SWEIS would be compared to the No Action Alternative. The three action alternatives would differ by either their type or level of operations and may include proposals for new operations or the reduction or elimination of certain operations.

DATES: NNSA invites comments on the scope of this SWEIS. The public scoping period starts with the publication of this notice and will continue until 45 days after publication in the Federal Register. NNSA will consider all comments defining the scope of the SWEIS received or postmarked by this date. Comments received or postmarked after this date will be considered to the extent practicable. NNSA will conduct public scoping meetings in Albuquerque, New Mexico, scheduled as follows:

• Tuesday, July 12, 2011—1-4 p.m., Hilton Albuquerque Hotel, 1901 University Boulevard Northeast, Albuquerque, New Mexico.

• Tuesday, July 12, 2011—6-9 p.m., Hilton Albuquerque Hotel, 1901 University Boulevard Northeast, Albuquerque, New Mexico.

• Wednesday, July 13, 2011—1-4 p.m., Hilton Albuquerque Hotel, 1901 University Boulevard Northeast, Albuquerque, New Mexico.

• Wednesday, July 13, 2011—6-9 p.m., Hilton Albuquerque Hotel, 1901 University Boulevard Northeast, Albuquerque, New Mexico.

These scoping meetings will provide the public with an opportunity to present comments, ask questions, and discuss issues with NNSA officials regarding the SWEIS. Preparation of the SWEIS will require participation of other Federal agencies. As land managers on and around KAFB, the U.S. Department of the Air Force and the U.S. Department of Agriculture, Forest Service (USFS) have an inherent interest in activities conducted onsite by NNSA; therefore DOE intends to request the participation of both the Air Force and the USFS as cooperating agencies.

ADDRESSES: To submit comments on the scope of the SWEIS, questions about the document or scoping meetings, or to be included on the document distribution list, please contact Jeanette Norte, NNSA Sandia Site Office, SWEIS Document Manager, P.O. Box 5400, Albuquerque, New Mexico 87185-5400; local telephone (505) 845-4808 or out of area toll free telephone number 1-855-766-4651; fax (505) 284-7197; or e-mail address: sandia.sweis@doeal.gov.

FOR FURTHER INFORMATION CONTACT: For general information about the DOE NEPA process, please contact Carol M. Borgstrom, Director, Office of NEPA Policy and Compliance (GC-54), U.S. Department of Energy, 1000 Independence Avenue, SW., Washington, DC 20585; e-mail: askNEPA@hq.doe.gov; telephone: 202-586-4600, or leave a message at 1-800-472-2756; or fax: 202-586-7031. Additional information regarding DOE NEPA activities is available on the Internet through the NEPA Web site at http://nepa.energy.gov.

SUPPLEMENTARY INFORMATION:

Background: SNL/NM is one of three national laboratories in NNSA's nuclear security enterprise. SNL/NM is a multi-disciplinary, multi-purpose national laboratory primarily engaged in work that supports national security, homeland security initiatives, environmental stewardship, and defense research and development programs (R&D) for DOE/NNSA and other government entities. Responsibilities in support of nuclear weapons activities include design, certification, and assessment of non-nuclear subsystems of nuclear weapons; system integration; safety, security, reliability, and use control of nuclear weapons; direction and support to production plants regarding issues associated with production and dismantlement of nuclear weapons; production and/or acquisition of weapons components; surveillance and support of weapons in the stockpile; and work in nuclear intelligence, nonproliferation, and treaty verification technologies. Nonweapons research and science services are provided in areas including waste management, environmental restoration, hazardous and radioactive material transportation, energy efficiency and renewable energy, nuclear energy, fossil energy, magnetic fusion, basic energy sciences, supercomputing, and biological and environmental research. Additional activities include research on energy and environmental technologies, other engineering research, and work for other government agencies.

SNL/NM occupies about 8,658 acres on and around KAFB in central New Mexico, and is bordered on the north and west by the city of Albuquerque. The eastern boundary is USFS land and the southern boundary is the Isleta Pueblo. SNL/NM operations are managed and operated for DOE/NNSA under contract by the Sandia Corporation, a wholly owned subsidiary of the Lockheed Martin Corporation.

The 1999 SNL/NM SWEIS examined existing and potential impacts to the environment from ongoing and anticipated future DOE/NNSA operations conducted over approximately a 10-year period of time at SNL/NM and other DOE operations on and around KAFB. The three alternatives analyzed in the 1999 SNL/NM SWEIS were: (1) The No Action Alternative, to continue to operate at the planned levels as reflected in DOE Management Plans for 1998 through 2008; (2) The Expanded Operations Alternative, DOE's preferred alternative, to operate at the highest levels supported by then-current and new facilities, and (3) A Reduced Alternative, to operate at the minimum level of activity while still maintaining core mission capabilities. DOE's ROD, dated December 15, 1999, implemented the Expanded Operations Alternative.

In August 2006, DOE/NNSA completed a 5-year review of the 1999 SNL/NM SWEIS with the preparation of a Supplement Analysis (SA), Final Supplement Analysis for the Site-Wide Environmental Impact Statement for Sandia National Laboratories, New Mexico (DOE/EIS-0281-SA-04). This was done in accordance with DOE's regulatory requirement to evaluate site-wide NEPA documents at least every 5 years (10 CFR 1021.330) to determine the adequacy of an existing EIS. Based on the 2006 SA, DOE/NNSA determined that there were no substantial changes to the actions or impacts evaluated in the SNL/NM SWEIS, and there were no significant new circumstances or information relevant to environmental concerns; thus, the existing SNL/NM SWEIS was deemed adequate and neither a supplemental EIS nor a new EIS was required.

Purpose and Need: The purpose and need for agency action is to continue the operation of SNL/NM to provide support for DOE's core missions as directed by the Congress and the President. SNL/NM supports NNSA national security objectives through the engineering of nuclear weapon components and other nuclear and non-nuclear activities. In addition, SNL/NM oversees DOE/NNSA national security related research, development, and testing programs and conducts extensive work for other federal agencies.

Proposed Action and Alternatives for the SWEIS: In accordance with applicable DOE and CEQ NEPA regulations, the No Action Alternative will be analyzed in the SWEIS and will form the baseline for the other action alternatives analyzed in the document. In this case, the No Action Alternative will be the continued implementation of the 1999 SNL/NM SWEIS ROD at SNL/NM over the next 5-10 years. The No Action Alternative will also include the implementation of other decisions supported by separate NEPA analyses completed since the issuance of the Final 1999 SNL/NM SWEIS. This includes four Supplement Analyses resulting in the determination that further NEPA documentation was not required, and one Environmental Impact Statement: (1) Supplement Analysis for the Final Site-Wide Environmental Impact Statement for Sandia National Laboratories, New Mexico to Reestablishing Long-Term Pulse Mode Testing Capability at the Annular Core Research Reactor (ACRR), Sandia National Laboratories, New Mexico (ACRR Pulse Mode SA) (DOE/EIS-0281-SA-01); (2) Supplement Analysis for the Final Site-Wide Environmental Impact Statement for Sandia National Laboratories, New Mexico for Isentropic Compression and Flyer Plate Experiments Involving Plutonium at the Z and Saturn Accelerators (Pu-ICE SA) (DOE/EIS-0281-SA-02); (3) Supplement Analysis for the Final Site-Wide Environmental Impact Statement for Sandia National Laboratories, New Mexico for the Installation of a Petawatt Laser System in TA-IV Petawatt Laser System SA) (DOE/EIS-0281-SA-03); (4) Sandia National Laboratories, New Mexico Final Supplement Analysis for the Site-Wide Environmental Impact Statement (2006 SNL/NM SWEIS SA) (DOE/EIS-0281-SA-04); and (5) Final Complex Transformation Supplemental Programmatic Environmental Impact Statement (DOE/EIS-0235-S4) and its RODs (73 FR 77644 and 73 FR 77656). In addition, the following seven environmental assessments and their associated Findings of No Significant Impacts will also be included in the No Action Alternative, as well as actions categorically excluded from the need for preparation of either an EA or an EIS: (1) Environmental Assessment for the Microsystems and Engineering Sciences Applications Complex, DOE/EA-1335, September 2000; (2) Final Environmental Assessment for the Test Capabilities Revitalization at Sandia National Laboratories, New Mexico, DOE/EA-1446, January 2003; (3) Final Environmental Assessment for the Center for Integrated Nanotechnologies at Sandia National Laboratories, New Mexico, DOE/EA-1457, March 2003; (4) Final Environmental Assessment for the Proposed Consolidation of Neutron Generator Tritium Target Loading Production, DOE/EA-1532, June 2005; (5) Final Environmental Assessment for the Expansion of Permitted Land and Operations at the 9940 Complex and Thunder Range at Sandia National Laboratories, New Mexico, DOE/EA-1603, April 2008; (6) Final Environmental Assessment for the Removal Actions at the Technical Area III Classified Waste Landfill, Sandia National Laboratories, New Mexico, DOE/EA-1729, August 2010; (7) Final Environmental Assessment for Proposed Construction and Lease of New Facilities for the Department of Energy, National Nuclear Security Administration, Office of Secure Transportation (Albuquerque Transportation and Technology Center) Albuquerque, New Mexico, U. S. General Services Administration, July 2006. These various documents can be reviewed at the DOE/NNSA Public Reading Room at Government Information/Zimmerman Library, MSC05 3020, 1 University of New Mexico, Albuquerque, NM 87131-0001, Tel: 505-277-5441, Fax: 505-277-6019; E-mail: govref@unm.edu; Reading Room Web site: http://elibrary.unm.edu/doe; and on the Internet at: http://nepa.energy.gov.

Three action alternatives will be considered in the SWEIS: Expanded Operations, Reduced Operations, and Renewable Energy Operations. All three of these alternatives will be compared to the No Action Alternative level of operations. The Expanded Operations Alternative will consider the highest level of operations that can be supported in existing facilities and potential new facilities. The Reduced Operations Alternative will consider an overall reduction in the level of operations while maintaining core mission capabilities. The Renewable Energy Operations Alternative will consider renewable energy R&D and the potential deployment of those technologies on the SNL/NM; this alternative or portions of it may be combined with either the Expanded Operations Alternative or the Reduced Operations Alternative. Any new renewable facilities/activities will be included in the analysis for the Expanded Operations Alternative if they are reasonably foreseeable (i.e., proposed within the next 5-10 years).

This SWEIS will analyze potential impacts resulting from reasonably foreseeable operations and compare these impacts to those projected in the No-Action Alternative. The SWEIS will analyze projected impacts anticipated from operating SNL/NM and from other DOE activities at both on-site and off-site locations. Direct and indirect, as well as unavoidable and irreversible and irretrievable, impacts to the environment of SNL/NM operations and other DOE activities at both on-site and off-site locations will be identified and analyzed in the SWEIS. Where appropriate, mitigation strategies will also be analyzed in the SWEIS. Further, an updated evaluation of SNL/NM operational and transportation accident analyses and a new assessment of cumulative impacts associated with DOE/NNSA operations in Albuquerque will also be included. DOE/NNSA intends to re-evaluate the range of reasonable alternatives following public scoping.

Preliminary Identification of Environmental Issues: DOE/NNSA proposes to address the issues listed below when considering the potential impacts of each alternative. This list is presented to facilitate public comment during the scoping period and will be revisited as DOE/NNSA considers all scoping comments. It is not intended to be comprehensive, or to imply any predetermination of impacts.

• Potential effects on the public;

• Human health impacts resulting from exposure to hazardous materials under routine and reasonably foreseeable accident scenarios;

• Impacts on surface and groundwater, and on water use and quality;

• Impacts on air quality (including greenhouse gas emissions) and noise;

• Impacts on plants and animals, and their habitats, including species that are Federal- or state-listed as threatened or endangered, or of special concern;

• Impacts on geology and soil;

• Impacts on cultural resources such as Native American sites and Cold War structures and archaeological resources;

• Potential impacts from transportation and traffic;

• Socioeconomic impacts on potentially affected communities including environmental justice issues, such as disproportionately high and adverse impacts to minority and low-income populations;

• Potential impacts on land use;

• Pollution prevention and waste management practices and activities;

• Energy efficiency activities;

• Unavoidable adverse impacts and irreversible and irretrievable commitments of resources;

• Potential cumulative environmental effects of past, present, and reasonably foreseeable future actions;

• The potential impacts of intentional destructive acts, including sabotage and terrorism, which will be addressed in a classified appendix to the SWEIS.

SWEIS Process and Invitation To Comment: The SWEIS scoping process provides an opportunity for the public to assist the DOE/NNSA in determining issues to be analyzed in the document. Four public scoping meetings will be held as noted under DATES in this Notice. The purpose of scoping meetings is to provide attendees an opportunity to present comments, ask questions, and discuss concerns regarding the SWEIS with DOE/NNSA officials. Comments and recommendations can also be submitted to Jeanette Norte as noted in this Notice under ADDRESSES. The SWEIS scoping meetings will use a format to facilitate dialogue between DOE/NNSA and the public and will provide individuals the opportunity to give written or oral statements. DOE/NNSA welcomes specific comments or suggestions on the SWEIS process. Copies of written comments and transcripts of oral comments provided to DOE/NNSA during the scoping period will be available at the DOE Public Reading Room at Government Information/Zimmerman Library MSC05 3020, 1 University of New Mexico, Albuquerque, NM 87131-0001, Tel: 505-277-5441 Fax: 505-277-6019 E-mail: govref@unm.edu; Reading Room Web site: http://elibrary.unm.edu/doe; and on the Internet at http://www.doeal.gov/sso/eshqa.aspx. After the close of the public scoping period, DOE/NNSA will begin developing the draft SWEIS. DOE/NNSA expects to issue the draft SWEIS for public review and comment in 2012 for at least 60 days following publication of the Environmental Protection Agency's Notice of Availability in the Federal Register. The Notice of Availability, along with notices placed in local newspapers, will provide dates and locations for public hearings on the draft SWEIS and the deadline for comments on the draft document. Persons who submit comments with a mailing address during the scoping process will receive a copy of the draft SWEIS. Other persons who would like to receive a copy of the document for review when it is issued should notify Jeanette Norte at one of the addresses provided previously. DOE/NNSA will include comments received on the draft SWEIS in the final SWEIS.

Issued in Washington, DC, this 21st day of June 2011.
Thomas P. D'Agostino,
Administrator, National Nuclear Security Administration.

[FR Doc. 2011-15951 Filed 6-23-11; 8:45 am]

BILLING CODE 6450-01-P